DEPARTMENT OF COMMERCE

National Oceanic and Atmospheric Administration

50 CFR Part 622

[Docket No. 131211999-5045-02]

RIN 0648-BD86

Fisheries of the Caribbean, Gulf of Mexico, and South Atlantic; Coastal Migratory Pelagic Resources in the Gulf of Mexico and Atlantic Region; Amendment 20B; Correction

AGENCY: National Marine Fisheries Service (NMFS), National Oceanic and Atmospheric Administration (NOAA), Commerce.

ACTION: Final rule; correction.

SUMMARY: This document contains a correction to the final rule to implement Amendment 20B to the Fishery Management Plan for the Coastal Migratory Pelagic Resources in the exclusive economic zone of the Gulf of Mexico and Atlantic Region (Amendment 20B) that was published in the Federal Register January 27, 2015.

DATES: This correction is effective March 1, 2015.

FOR FURTHER INFORMATION CONTACT: Anik Clemens, 727-551-5611; email: Anik.Clemens@noaa.gov.

SUPPLEMENTARY INFORMATION:

Need for Correction

On January 27, 2015, (80 FR 4216), NMFS published an incorrect annual catch limit (ACL) value for Atlantic migratory group Spanish mackerel in § 622.388(d)(1)(iii). The commercial ACL for Atlantic migratory group Spanish mackerel is equal to the commercial quota. The commercial quota value was published correctly in § 622.384(c)(2), however, the commercial ACL value was published incorrectly in § 622.388(d)(1)(iii). This document corrects the commercial ACL value for Atlantic migratory group Spanish mackerel.

Correction

1. On page 4223, in the first column, § 622.388(d)(1)(iii) is correctly revised to read as follows:

§ 622.388 Annual catch limits (ACLs), annual catch targets (ACTs), and accountability measures (AMs).

* * * * *

(d) * * *

(1) * * *

(iii) The commercial ACL for the Atlantic migratory group Spanish mackerel is 3.33 million lb (1.51 million kg).

* * * * *

Dated: February 19, 2015.
Samuel D. Rauch III,
Deputy Assistant Administrator for Regulatory Programs, National Marine Fisheries Service.

[FR Doc. 2015-03905 Filed 2-24-15; 8:45 am]

BILLING CODE 3510-22-P